DEPARTMENT OF STATE

[Public Notice: 8877]

Additional Designation of Eyvaz Technic Manufacturing Company, The Exploration and Nuclear Raw Materials Production Company, Maro Sanat Company, Navid Composite Material Company, and Negin Parto Khavar Pursuant to Executive Order 13382

AGENCY: Department of State.

ACTION: Designation of five Iranian entities pursuant to Executive Order (E.O.) 13382.

SUMMARY: Pursuant to the authority in section 1(ii) of Executive Order 13382, “Blocking Property of Weapons of Mass Destruction Proliferators and Their Supporters”, the State Department, in consultation with the Secretary of the Treasury and the Attorney General, has determined that Eyvaz Technic Manufacturing Company, The Exploration and Nuclear Raw Materials Production Company, Maro Sanat Company, Navid Composite Material Company, and Negin Parto Khavar have engaged, or attempted to engage, in activities or transactions that have materially contributed to, or pose a risk of materially contributing to, the proliferation of weapons of mass destruction or their means of delivery (including missiles capable of delivering such weapons), including any efforts to manufacture, acquire, possess, develop, transport, transfer or use such items, by any person or foreign country of proliferation concern.

DATES: The designation by the Under Secretary of State for Arms Control and International Security of the entity identified in this notice pursuant to Executive Order 13382 is effective on December 11, 2013.

FOR FURTHER INFORMATION CONTACT: Director, Office of Counterproliferation Initiatives, Bureau of International Security and Nonproliferation, Department of State, Washington, DC 20520, tel.: 202-647-5193.

SUPPLEMENTARY INFORMATION:

Background

On June 28, 2005, the President, invoking the authority, inter alia, of the International Emergency Economic Powers Act (50 U.S.C. 1701-1706) (“IEEPA”), issued Executive Order 13382 (70 CFR 38567, July 1, 2005) (the “Order”), effective at 12:01 a.m. eastern daylight time on June 30, 2005. In the Order the President took additional steps with respect to the national emergency described and declared in Executive Order 12938 of November 14, 1994, regarding the proliferation of weapons of mass destruction and the means of delivering them.

Section 1 of the Order blocks, with certain exceptions, all property and interests in property that are in the United States, or that hereafter come within the United States or that are or hereafter come within the possession or control of United States persons, of: (1) The persons listed in the Annex to the Order; (2) any foreign person determined by the Secretary of State, in consultation with the Secretary of the Treasury, the Attorney General, and other relevant agencies, to have engaged, or attempted to engage, in activities or transactions that have materially contributed to, or pose a risk of materially contributing to, the proliferation of weapons of mass destruction or their means of delivery, including any efforts to manufacture, acquire, possess, develop, transport, transfer or use such items, by any person or foreign country of proliferation concern; (3) any person determined by the Secretary of the Treasury, in consultation with the Secretary of State, the Attorney General, and other relevant agencies, to have provided, or attempted to provide, financial, material, technological or other support for, or goods or services in support of, any activity or transaction described in clause (2) above or any person whose property and interests in property are blocked pursuant to the Order; and (4) any person determined by the Secretary of the Treasury, in consultation with the Secretary of State, the Attorney General, and other relevant agencies, to be owned or controlled by, or acting or purporting to act for or on behalf of, directly or indirectly, any person whose property and interests in property are blocked pursuant to the Order.

Information on the additional designees is as follows:

Eyvaz Technic Manufacturing Company

AKA: Eyvaz Technic

AKA: Eyvaz Technik

AKA: Eyvaz Technic Industrial Company Ltd.

Address: Sharia'ati St., Shahid Hamid Sadik Alley, Building 3, Number 3, Tehran, Iran

The Exploration and Nuclear Raw Materials Production Company

AKA: EMKA

AKA: EMKA Company

Address: Tehran, Iran

Maro Sanat Company

AKA: Maro Sanat Engineering

AKA: Marou Sanat Engineering Company

AKA: Mohandesi Tarh Va Toseh Maro Sanat Company

AKA: Maro Sanat Development and Design Engineering Company

Address: North Dr. Moftah Street, Zahra Street, Placard 9, Ground floor, Tehran, Iran

Navid Composite Material Company

AKA: Navid Composite

Address: No. 3, Alley 23, 16th Janbazan Street, North Kargar Avenue, Tehran, Iran

Negin Parto Khavar

AKA: Negin Parto Khavar Co. Ltd.

AKA: Negin Parto

AKA: Payan Avaran Omran

AKA: Ertebate Eghtessade Monir

Address: Fatmi Gharabi Street, between Sindokht and Etemad Zadeh, Block 307, Floor 3, Unit 7, Tehran, Iran. Zip Code: 1411816191

Address: Unit 7, No. 279 West Fatemi Street, Tehran, Iran. Zip Code: 1411816191

Dated: December 12, 2013.
Rose Gottemoeller,
Acting Under Secretary for Arms Control and International Security, Department of State.

Editorial Note: This document was received for publication by the Office of Federal Register on September 18, 2014.

[FR Doc. 2014-22613 Filed 9-22-14; 8:45 am]

BILLING CODE 4710-27-P